DEPARTMENT OF COMMERCE

Foreign-Trade Zones Board

[S-66-2018]

Foreign-Trade Zone 29—Louisville, Kentucky; Application for Subzone; Amcor Flexibles LLC; Shelbyville, Kentucky

An application has been submitted to the Foreign-Trade Zones Board (the Board) by the Louisville & Jefferson County Riverport Authority, grantee of FTZ 29, requesting subzone status for the facility of Amcor Flexibles LLC, located in Shelbyville, Kentucky. The application was submitted pursuant to the provisions of the Foreign-Trade Zones Act, as amended (19 U.S.C. 81a-81u), and the regulations of the Board (15 CFR part 400). It was formally docketed on May 1, 2018.

The proposed subzone site (14.364 acres) is located at 6850 Midland Industrial Drive, Shelbyville, Shelby County. Limited production activity was authorized for the company within FTZ 29 on May 11, 2017 (Doc. B-7-2017). The proposed subzone would be subject to the existing activation limit of FTZ 29.

In accordance with the Board's regulations, Elizabeth Whiteman of the FTZ Staff is designated examiner to review the application and make recommendations to the Executive Secretary.

Public comment is invited from interested parties. Submissions shall be addressed to the Board's Executive Secretary at the address below. The closing period for their receipt is June 18, 2018. Rebuttal comments in response to material submitted during the foregoing period may be submitted during the subsequent 15-day period to July 2, 2018.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: May 1, 2018.
Andrew McGilvray,
Executive Secretary.

[FR Doc. 2018-09634 Filed 5-4-18; 8:45 am]

BILLING CODE 3510-DS-P